DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Human Reliability Program (HRP), OMB Control Number 1910-5122. This information collection consists of forms that will certify to DOE that respondents were advised of the requirements for occupying or continuing to occupy an HRP position. The HRP is a security and safety reliability program for individuals who apply for or occupy certain positions that are critical to the national security. It requires an initial and annual supervisory review, medical assessment, management evaluation, and a DOE personnel security review of all applicants or incumbents. It is also used to ensure that employees assigned to nuclear explosive duties do not have emotional, mental, or physical conditions that could result in an accidental or unauthorized detonation of nuclear explosives.

DATES: Comments regarding this collection must be received on or before February 25, 2010. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs (OIRA), Office of Management and Budget, New Executive Office Building, Room 10102, 735 17th Street, NW., Washington, DC 20503; and to Dane A. Woodard, U.S. Department of Energy, Office of Health, Safety and Security (HS-1.4), 1000 Independence Ave., SW., Washington, DC 20585, telephone (202) 586-4148, by fax at (202) 586-3312, or by e-mail at dane.woodard@hq.doe.gov.

FOR FURTHER INFORMATION CONTACT: Request for additional information should be directed to Dane A. Woodard, U.S. Department of Energy, Office of Health, Safety and Security (HS-1.4), 1000 Independence Ave., SW., Washington, DC 20585, telephone (202) 586-4148, by fax at (202) 586-3312, or by e-mail at dane.woodard@hq.doe.gov.

SUPPLEMENTARY INFORMATION: This information collection request contains: (1) Current OMB Number: 1910-5122; (2) Information Collection Request Title: Human Reliability Program; (3) Purpose: This collection provides for DOE management to ensure that individuals who occupy HRP positions meet program standards of reliability and physical and mental suitability; (4) Estimated Number of Respondents: 51,700; (5) Estimated Total Burden Hours: 31,020; (6) Number of Collections: The information collection request contains five (5) information and/or recordkeeping requirements.

Statutory Authority: 42 U.S.C. 2165; 10 CFR pt. 712.

Issued in Washington, DC, on January 20, 2010.
Lesley A. Gasperow,
Director, Office of Resource Management, Office of Health, Safety and Security.

[FR Doc. 2010-1496 Filed 1-25-10; 8:45 am]

BILLING CODE 6450-01-P